NATIONAL FOUNDATION ON THE ARTS AND THE HUMANITIES

Arts Advisory Panel Meeting

AGENCY: National Endowment for the Arts, National Foundation on the Arts and Humanities.

ACTION: Notice of Meeting.

SUMMARY: Pursuant to Section 10(a)(2) of the Federal Advisory Committee Act (Pub. L. 92-463), as amended, notice is hereby given that twenty-one meetings of the Arts Advisory Panel to the National Council on the Arts will be held at the Nancy Hanks Center, 1100 Pennsylvania Avenue NW., Washington, DC 20506 as follows (all meetings are Eastern time and ending times are approximate):

Visual Arts (application review): This meeting will be closed.

Dates: December 3, 2013. 9:00 a.m. to 4:45 p.m. in room 730.

Arts Education (application review): This meeting will be virtual and will be closed.

Dates: December 4, 2013. 12:15 p.m. to 2:30 p.m.

Literature (application review): This meeting will be virtual and will be closed.

Dates: December 4, 2013. 3:00 p.m. to 5:00 p.m.

Visual Arts (application review): This meeting will closed.

Dates: December 4. 9:00 a.m. to 4:45 p.m. in room 730.

Arts Education (application review): This meeting will be virtual and will be closed.

Dates: December 5, 2013. 12:15 p.m. to 2:30 p.m.

Design (application review): This meeting will be virtual and will be closed.

Dates: December 5, 2013. 2:00 p.m. to 4:00 p.m.

Folk and Traditional Arts (application review): This meeting will be closed.

Dates: December 5, 2013. 9:00 a.m. to 5:30 p.m. in room 714.

Literature (application review): This meeting will be virtual and will be closed.

Dates: December 5, 2013. 3:00 p.m. to 5:00 p.m.

Folk and Traditional Arts (application review): This meeting will be virtual and will be closed.

Dates: December 9, 2013. 2:00 p.m. to 4:00 p.m.

Media Arts (application review): This meeting will be closed.

Dates: December 9, 2013. 9:00 a.m. to 6:00 p.m. in Room 730.

Media Arts (application review): This meeting will be closed.

Dates: December 10, 2013. 9:00 a.m. to 6:00 p.m. in Room 730.

Arts Education (application review): This meeting will be virtual and will be closed.

Dates: December 11, 2013. 12:45 p.m. to 3:00 p.m.

Presenting and Multidisciplinary Works (application review): This meeting will be closed.

Dates: December 11, 2013. 9:00 a.m. to 5:00 p.m. in Room 716.

Arts Education (application review): This meeting will be virtual and will be closed.

Dates: December 12, 2013. 12:45 p.m. to 3:00 p.m.

Media Arts (application review): This meeting will be closed.

Dates: December 12, 2013. 9:00 a.m. to 6:00 p.m. in Room 730.

Presenting and Multidisciplinary Works (application review): This meeting will be closed.

Dates: December 12, 2013. 9:00 a.m. to 5:00 p.m. in Room 716.

Media Arts (application review): This meeting will be closed.

Dates: December 13, 2013. 9:00 a.m. to 6:00 p.m. in Room 730.

Museums (application review): This meeting will be virtual and will be closed.

Dates: December 16, 2013. 2:30 p.m. to 4:00 p.m.

Arts Education (application review): This meeting will be virtual and will be closed.

Dates: December 17, 2013. 12:45 p.m. to 3:00 p.m.

Museums (application review): This meeting will be virtual and will be closed.

Dates: December 17, 2013. 2:30 p.m. to 4:00 p.m.

Design (application review): This meeting will be virtual and will be closed.

Dates: December 18, 2013. 2:00 p.m. to 4:00 p.m.

FOR FURTHER INFORMATION CONTACT: Further information with reference to these meetings can be obtained from Ms. Kathy Plowitz-Worden, Office of Guidelines & Panel Operations, National Endowment for the Arts, Washington, DC, 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: November 7, 2013.
Kathy Plowitz-Worden,
Panel Coordinator, National Endowment for the Arts.

[FR Doc. 2013-27085 Filed 11-12-13; 8:45 am]

BILLING CODE 7537-01-P